DEPARTMENT OF COMMERCE

National Oceanic and Atmospheric Administration

[I.D. 070202B]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Skate and Monkfish Committees in July, 2002 to consider actions affecting New England fisheries in the exclusive economic zone (EEZ). Recommendations from these groups will be brought to the full Council for formal consideration and action, if appropriate.

DATES: The meetings will be held on Monday, July 22, 2002. See SUPPLEMENTARY INFORMATION for specific dates and times.

ADDRESSES: The meetings will be held in Danvers, MA and Portland, ME. See SUPPLEMENTARY INFORMATION for specific locations.

Council address: New England Fishery Management Council, 50 Water Street, Mill 2, Newburyport, MA 01950.

FOR FURTHER INFORMATION CONTACT: Paul J. Howard, Executive Director, New England Fishery Management Council; (978) 465-0492.

SUPPLEMENTARY INFORMATION: Monday, July 22, 2002, 9:30 a.m.—Monkfish Oversight Committee Meeting.

Location: DoubleTree Hotel, 1230 Congress Street, Portland, ME 04102; telephone: (207) 774-5611.

The Committee will review the report of the Plan Development Team on options for revising the overfishing definition reference points and status determination criteria. The Committee will finalize its recommendations to the New England and Mid-Atlantic Councils for management alternatives to be analyzed in the Amendment 2 Draft Supplemental Environmental Impact Statement. Alternatives designed to achieve the approved goals and objectives include, but are not limited to: permit qualification criteria for vessels fishing south of 38ºN; management program for a deepwater directed fishery in the Southern Fishery Management Area (SFMA); separation of monkfish days-at-sea (DAS) from multispecies and sea scallop DAS programs, including counting of monkfish DAS as 24-hour days; measures to minimize impacts of the fishery on endangered sea turtles; measures to minimize bycatch in directed in non-directed fisheries, including mesh size and other gear requirements; an exemption program for vessels fishing for monkfish outside of the Exclusive Economic Zone (EEZ) (in the NAFO Regulated Area); alternative measures to minimize impacts of the fishery on essential fish habitat (EFH); measures to improve data collection and research on monkfish, including mechanisms for funding cooperative research programs. The Committee may develop and recommend other management alternatives not included in the list above.

Monday, July 22, 2002, 9:30 a.m.—Skate Oversight Committee Meeting.

Location: Sheraton Ferncroft, 50 Ferncroft Road, Danvers, MA 01923; telephone: (978) 777-2500.

The committee will include a discussion of outstanding issues identified by NMFS related to the Council’s submission of the Draft Skate Fishery Management Plan (FMP) and Environmental Impact Statement (EIS). The committee will review and discuss PDT progress towards resolving the issues identified by NMFS. Also on the agenda will be a review of the revised sections of the Draft Skate FMP/EIS related to establishing a concrete link between skates and management measures in other fisheries and develop recommendations for Council consideration. They will review revised sections of the Draft Skate FMP/EIS related to specifications of Maximum Sustainable Yield (MSY)/Optimum Yield (OY) and rebuilding programs for overfished species and develop recommendations for Council consideration. There will also be a discussion of timing and location of public hearings for the Draft Skate FMP/EIS. The committee will also review progress towards development of a Skate Species Identification Guide.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: July 2, 2002.
Theophilus R. Brainerd,
Acting Director, Office of Sustainable Fisheries, National Marine Fisheries Service.

[FR Doc. 02-17046 Filed 7-5-02; 8:45 am]

BILLING CODE 3510-22-S